DEPARTMENT OF TRANSPORTATION

Federal Aviation Administration

Commercial Space Transportation Advisory Committee—Open Meeting

AGENCY: Federal Aviation Administration (FAA), DOT.

ACTION: Notice of Commercial Space Transportation Advisory Committee Meeting.

SUMMARY: Pursuant to Section 10(a)(2) of the Federal Advisory Committee Act, notice is hereby given of a meeting of the Commercial Space Transportation Advisory Committee (COMSTAC).

DATES AND ADDRESSES: The meeting will take place on Thursday, June 14th from 10:00 a.m. to 5:00 p.m. in the atrium of the Department of Transportation Headquarters, located at 1200 New Jersey Ave SE, Washington, DC 20590. Guests should allow time for security screening when entering the building.

SUPPLEMENTARY INFORMATION: This will be the 65th meeting of the COMSTAC. The preliminary schedule for the COMSTAC meetings on June 14th is below:

—Arrival and Check-in at DOT HQ (9:30-10:00 a.m.)

—Remarks from Invited Guests (10:00 a.m.-12:00 p.m.)

—Lunch Break (12:00-1:30 p.m.)

—Committee Business and Public Comments (1:30-5:00 p.m.)

The invited guest speakers will discuss issues and topics relevant to the commercial space transportation industry, such as Congressional activity, and updates from the FAA, NASA, and National Space Council.

This meeting is open to the public. Interested members of the public may submit relevant written statements for the COMSTAC members to consider under the advisory process. Statements may concern the issues and agenda items mentioned above and/or additional issues that may be relevant for the U.S. commercial space transportation industry. Interested parties wishing to submit written statements should contact the points of contact listed below in writing (mail or email) by May 31st so that the information can be made available to COMSTAC members for their review and consideration before the June 14th meeting. Written statements should be supplied in the following formats: one hard copy with original signature and/or one electronic copy via email. Portable Document Format (PDF) attachments are preferred for email submissions.

An agenda will be posted on the FAA website at www.faa.gov/go/ast. For specific information concerning the times and locations of the COMSTAC working group meetings, contact the contact person listed below.

Individuals who plan to attend and need special assistance, such as sign language interpretation or other reasonable accommodations, should inform the contact person listed below in advance of the meeting.

FOR FURTHER INFORMATION CONTACT: Di Reimold, COMSTAC Executive Director; telephone (202) 267-7635; email dorothy.reimold@faa.gov, and Nate McIntyre, COMSTAC Designated Federal Officer; telephone (202) 267-8464; email nathanael.mcintyre@faa.gov; FAA Office of Commercial Space Transportation, 800 Independence Avenue SW, Room 331, Washington, DC 20591.

Complete information regarding COMSTAC is available on the FAA website at: http://www.faa.gov/about/office_org/headquarters_offices/ast/advisory_committee/.

Issued in Washington DC, May 1, 2018.
Kelvin B. Coleman,
Acting Associate Administrator for Commercial Space Transportation.

[FR Doc. 2018-09675 Filed 5-4-18; 8:45 am]

BILLING CODE 4910-13-P